DEPARTMENT OF HEALTH AND HUMAN SERVICES

National Institutes of Health

National Cancer Institute; Amended Notice of Meeting

Notice is hereby given of a change in the meeting of the National Cancer Institute Special Emphasis Panel, February 16, 2016, 10:00 a.m. to February 16, 2016, 1:00 p.m., National Cancer Institute Shady Grove, 9609 Medical Center Drive, 7W122, Rockville, MD 20850 which was published in the Federal Register on January 5, 2016, 81 FR 245.

The meeting is amended to change the date of the meeting to February 17, 2016 from 10:00 a.m. to 3:00 p.m. The meeting is closed to the public.

Dated: January 14, 2016.
Melanie J. Gray,
Program Analyst, Office of Federal Advisory Committee Policy.

[FR Doc. 2016-01067 Filed 1-20-16; 8:45 am]

BILLING CODE 4140-01-P